LEGAL SERVICES CORPORATION

Sunshine Act Meetings

TIME AND DATE: The Governance and Performance Review and Operations and Regulations Committees of the Legal Services Corporation Board of Directors will meet virtually on March 24 and March 31, 2025, respectively. On March 24, the Governance and Performance Review Committee meeting will begin at 1:00 p.m. ET and will continue until the conclusion of the Committee's agenda. On March 31, the Operations and Regulations Committee meeting will begin at 1:30 p.m. ET and will continue until the conclusion of the Committee's agenda.

PLACE:

Public Notice of Virtual Meeting: LSC will conduct the March 24 and March 31, 2025, meetings via Zoom.

Public Observation: Unless otherwise noted herein, all committee meetings will be open to public observation via Zoom. Members of the public who wish to participate remotely in the public proceedings may do so by following the directions provided below.

Directions for Open Sessions:

Monday, March 24, 2025

• To join the Zoom meeting by computer, please use this link: https://lsc-gov.zoom.us/j/83635945420?pwd=FNhr5xp21eLXyiNVKpMBcuL52aYlCt.1&from=addon.

Meeting ID: 836 3594 5420.

Passcode: 097151.

○ To join the Zoom meeting with one tap from your mobile phone, please dial:

+13052241968,,83635945420# US.

+13017158592,,83635945420# US (Washington DC).

Meeting ID: 836 3594 5420.

Monday, March 31, 2025

• To join the Zoom meeting by computer, please use this link: https://lsc-gov.zoom.us/j/85252118753?pwd=NMQBqEhMezdppeuH4kNKajvDXx9VgX.1&fxsp0;from=addon.

Meeting ID: 852 5211 8753.

Passcode: 487693.

• To join the Zoom meeting with one tap from your mobile phone, please dial:

+13052241968,,85252118753# US.

+13126266799,,85252118753# US (Chicago).

Meeting ID: 852 5211 8753.

Once connected to Zoom, please immediately mute your computer or telephone. Members of the public are asked to keep their computers or telephones muted to eliminate background noise. To avoid disrupting the meetings, please refrain from placing the call on hold if doing so will trigger recorded music or other sound.

From time to time, the Committee Chairs may solicit comments from the public. To participate in the meeting during public comment, use the `raise your hand' or `chat' functions in Zoom and wait to be recognized by the Chair before stating your questions and/or comments.

STATUS: Parts of this meeting will be open to the public. The rest of the meeting will be closed to the public.

MATTERS TO BE CONSIDERED:

Meeting Schedule

Monday, March 24, 2025

Start Time: 1:00 p.m. ET.

Governance and Performance Review Committee.

PORTIONS OPEN TO THE PUBLIC: Matters to be discussed in open session include approval of the Committee's agenda and approval of the minutes of the Committee's January 21, 2025, meeting.

PORTIONS CLOSED TO THE PUBLIC: Matters to be discussed in closed session include report on evaluations of Vice President for Grants Management, Vice President Government Relations & Public Affairs, Vice President for Legal Affairs and General Counsel, and Chief Financial Officer and Treasurer.

Monday, March 31, 2025

Start Time: 1:30 p.m. ET.

Operations and Regulations Committee.

PORTIONS OPEN TO THE PUBLIC: Matters to be discussed in open session include approval of the Committee's agenda; approval of the minutes of the Committee's January 21, 2025, meeting; Committee's consideration of the 2025-2026 Regulatory Agenda; and Performance Management and Talent Management briefing.

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b).

Dated: March 12, 2025.
Stefanie Davis,
Deputy General Counsel, Legal Services Corporation.

[FR Doc. 2025-04333 Filed 3-13-25; 11:15 am]

BILLING CODE 7050-01-P